DEPARTMENT OF COMMERCE

Patent and Trademark Office

Agency Information Collection Activities; Submission to the Office of Management and Budget (OMB) for Review and Approval; Comment Request; Patent Processing

The United States Patent and Trademark Office (USPTO) will submit the following information collection request to the Office of Management and Budget (OMB) for review and clearance in accordance with the Paperwork Reduction Act of 1995, on or after the date of publication of this notice. The USPTO invites comments on this information collection renewal, which helps the USPTO assess the impact of its information collection requirements and minimize the public's reporting burden. Public comments were previously requested via the Federal Register on January 29, 2024 during a 60-day comment period (89 FR 5500). This notice allows for an additional 30 days for public comment.

Agency: United States Patent and Trademark Office, Department of Commerce.

Title: Patent Processing.

OMB Control Number: 0651-0031.

Needs and Uses: The United States Patent and Trademark Office (USPTO) is required by 35 U.S.C. 131 to examine an application for patent and, when appropriate, issue a patent. The USPTO is also required to publish patent applications, with certain exceptions, promptly after the expiration of a period of eighteen months from the earliest filing date for which a benefit is sought under title 35, United States Code (“eighteen-month publication”). Certain situations may arise which require that additional information be supplied in order for the USPTO to further process the patent or application. The USPTO administers the statutes through various sections of the rules of practice in 37 CFR part 1.

During the processing of an application for a patent, the applicant or applicant's representative may submit additional information to the USPTO concerning the examination of a specific application. For example, the applicant or applicant's representative may submit: information disclosure statements, petitions for extension of time, express abandonments of applications and petitions to revive abandoned applications, disclaimers, pre-appeal requests for review, petitions to make special, requests for expedited examination of design applications, requests for continued examination, requests to inspect, copy, and access patent applications, and certain transmittal forms.

The information in this collection is used by the USPTO to continue the processing of the patent or application to ensure that applicants are complying with the patent regulations and to aid in the prosecution of the application. This also includes situations that require additional information in order for the USPTO to further process the patent or application.

For this 30-day notice, the non-hourly cost burdens have been adjusted due to an increase in the postage rates since the 60-day notice was published. The 60-day Federal Register notice was published with several form numbers associated with this information collection inadvertently left off. In this notice, the USPTO has included all the form numbers associated with this information collection.

Forms: (AIA= America Invents Act; SB = Specimen Book)

• PTO/AIA/22 (Petition for Extension of Time under 37 CFR 1.136(a))

• PTO/AIA/24 (Express Abandonment under 37 CFR 1.138)

• PTO/AIA/24B (Petition for Express Abandonment to Obtain a Refund)

• PTO/AIA/25 (Terminal Disclaimer to Obviate a Provisional Double Patenting Rejection Over a Pending “Reference” Application)

• PTO/AIA/26 (Terminal Disclaimer to Obviate a Double Patenting Rejection Over a “Prior” Patent)

• PTO/AIA/33 (Pre-Appeal Brief Request for Review)

• PTO/AIA/40 (Request for Correction in a Patent Application Relating to Inventorship or an Inventor Name, or Order of Names, Other than in a Reissue Application (37 CFR 1.48))

• PTO/AIA/41 (Request to Correct or Update the Name of the Applicant Under 37 CFR 1.46(c)(1), or Change the Applicant Under 37 CFR 1.46(c)(2)

• PTO/AIA/63 (Terminal Disclaimer to Accompany Petition under 37 CFR 1.137 in a Design Application Filed on or after September 16, 2012)

• PTO/AIA/67 (Power to Inspect/Copy—For Applications Filed on or After September 16, 2012)

• PTO/AIA/96 (Statement Under 37 CFR 3.73(c))

• PTO/SB/08a (Information Disclosure Statement by Applicant)

• PTO/SB/08b (Information Disclosure Statement by Applicant)

• PTO/SB/17i (Processing Fee under 37 CFR 1.17(i) Transmittal)

• PTO/SB/21 (Transmittal Form)

• PTO/SB/22 (Petition for Extension of Time under 37 CFR 1.136(a))

• PTO/SB/24 (Express Abandonment under 37 CFR 1.138)

• PTO/SB/24B (Petition for Express Abandonment to Obtain a Refund)

• PTO/SB/25 (Terminal Disclaimer to Obviate a Provisional Double Patenting Rejection Over a Pending “Reference” Application)

• PTO/SB/25a (Terminal Disclaimer in a Patent or Proceeding in View of an Application)

• PTO/SB/26 (Terminal Disclaimer to Obviate a Double Patenting Rejection Over a “Prior” Patent)

• PTO/SB/26a (Terminal Disclaimer in a Patent or Proceeding in View of Another Patent)

• PTO/SB/27 (Request for Expedited Examination of a Design Application (37 CFR 1.155))

• PTO/SB/30 Patent Center and PTO/SB/30 (Request for Continued Examination (RCE) Transmittal)

• PTO/SB/33 (Pre-Appeal Brief Request for Review)

• PTO/SB/35 (Nonpublication Request under 35 U.S.C. 122(b)(2)(B)(i))

• PTO/SB/36 (Rescission of Previous Nonpublication Request (35 U.S.C. 122(b)(2)(B)(ii) and, if applicable, Notice of Foreign Filing (35 U.S.C. 122(b)(2)(B)(iii))

• PTO/SB/37 (Request Deferral of Examination 37 CFR 1.103(d))

• PTO/SB/38 (Request to Retrieve Electronic Priority Applications(s) Filed with Nonparticipating Office(s) That is Available in a Participating Office (37 CFR 1.55(i)(4)))

• PTO/SB/39 (Authorization or Rescission of Authorization to Permit Access to Application-as-filed by Participating Offices)

• PTO/SB/43 (Disclaimer in a Patent under 37 CFR 1.321(a))

• PTO/SB/63 (Terminal Disclaimer to Accompany Petition)

• PTO/SB/64 (Petition for Revival of an Application for Patent Abandoned Unintentionally Under 37 CFR 1.137(a))

• PTO/SB/64a (Petition for Revival of an Application for Patent Abandoned for Failure to Notify the Office of a Foreign or International Filing (37 CFR 1.137(f))

• PTO/SB/67 (Power to Inspect/Copy—For Applications Filed Before September 16, 2012)

• PTO/SB/68 (Request for Access to an Abandoned Application under 37 CFR 1.14)

• PTO/SB/91 (Deposit Account Order Form)

• PTO/SB/92 (Certificate of Mailing or Transmission under 37 CFR 1.8)

• PTO/SB/96 (Statement under 37 CFR 3.73(b))

• PTO/SB/130 (Petition to Make Special Based on Age for Advancement of Examination under 37 CFR 1.102(c)(1))

• PTOL/413A (Applicant Initiated Interview Request Form)

• PTO-2053-A/B (Notice Under 37 CFR 1.251—Pending Application)

• PTO-2054-A/B (Notice Under 37 CFR 1.251—Abandoned Application)

• PTO-2055-A/B (Notice Under 37 CFR 1.251—Patent)

Type of Review: Extension and revision of a currently approved information collection.

Affected Public: Private sector.

Respondent's Obligation: Required to obtain or retain benefits.

Frequency: On occasion.

Estimated Number of Annual Respondents: 2,435,597 respondents.

Estimated Number of Annual Responses: 2,435,597 responses.

Estimated Time per Response: The USPTO estimates that the responses in this information collection will take the public approximately between 2 minutes (0.03 hours) and 8 hours to complete. This includes the time to gather the necessary information, create the document, and submit the completed request to the USPTO.

Estimated Total Annual Respondent Burden Hours: 535,466 hours.

Estimated Total Annual Respondent Non-Hourly Cost Burden: $363,826,829.

This information collection request may be viewed at www.reginfo.gov. Follow the instructions to view Department of Commerce, USPTO information collections currently under review by OMB.

Written comments and recommendations for this information collection should be submitted within 30 days of the publication of this notice on the following website, www.reginfo.gov/public/do/PRAMain. Find this particular information collection by selecting “Currently under 30-day Review-Open for Public Comments,” or by using the search function and entering either the title of the information collection or the OMB Control Number, 0651-0031.

Further information can be obtained by:

• Email: InformationCollection@uspto.gov. Include “0651-0031 information request” in the subject line of the message.

• Mail: Justin Isaac, Office of the Chief Administrative Officer, United States Patent and Trademark Office, P.O. Box 1450, Alexandria, VA 22313-1450.

Justin Isaac,
Information Collections Officer, Office of the Chief Administrative Officer, United States Patent and Trademark Office.

[FR Doc. 2024-11010 Filed 5-17-24; 8:45 am]

BILLING CODE 3510-16-P